SECURITIES AND EXCHANGE COMMISSION

Sunshine Act Meetings

Notice is hereby given, pursuant to the provisions of the Government in the Sunshine Act, Public Law 94-409, that the Securities and Exchange Commission (“SEC”) and the Commodity Futures Trading Commission (“CFTC”) will hold public roundtable discussions on Tuesday, September 14, 2010 at the CFTC's headquarters at Three Lafayette Centre, Lobby Level Hearing Room (Room 1000), 1155 21st Street, NW., Washington, DC 20581 and on Wednesday, September 15, 2010 at the SEC's headquarters at 100 F Street, NE., Washington, DC 20549 in the Auditorium, (Room L-002).

The meeting on Tuesday will begin at 8:45 a.m. and the meeting on Wednesday will begin at 9 a.m., with both meetings being open to the public, with seating on a first-come, first-served basis. Visitors will be subject to security checks.

This Sunshine Act notice is being issued because a majority of the Commission may attend the meetings.

Commissioner Aguilar, as duty officer, determined that no earlier notice thereof was possible.

The agenda for the meeting on September 14, 2010 includes a panel discussion concerning data for swaps and security-based swaps, swap data repositories, security-based swap data repositories, and real-time public reporting in the context of certain authority that Sections 727, 728, and 763 of the Dodd-Frank Wall Street Reform and Consumer Protection Act (“Act”) granted the Agencies respectively.

The agenda for the meeting on September 15, 2010 includes a panel discussion concerning swap execution facilities and security-based swap execution facilities in the context of certain authority that Sections 733 and 763 of Act granted the Agencies.

For further information, please contact the CFTC's Office of Public Affairs at (202) 418-5080 or the SEC's office of Public Affairs at (202) 551-4120.

Dated: September 8, 2010.
Elizabeth M. Murphy,
Secretary.

[FR Doc. 2010-22751 Filed 9-8-10; 4:15 pm]

BILLING CODE 8010-01-P